DEPARTMENT OF STATE

[Public Notice 4358]

Determination Pursuant to Section 1(b) of Executive Order 13224 Relating to Basque Fatherland and Liberty (ETA)

Acting under the authority of section 1(b) of Executive Order 13224 of September 23, 2001, and in consultation with the Secretary of the Treasury, the Attorney General, and the Secretary of Homeland Security, I hereby determine that ETA uses or has used as aliases the names Batasuna, Euskal Herritarrok, and Herri Batasuna. I hereby amend the October 31, 2001, designation of Basque Fatherland and Liberty (ETA and other aliases) to add the following names as aliases of ETA:

Batasuna;

Euskal Herritarrok;

Herri Batasuna.

Consistent with the determination in section 10 of Executive Order 13224 that “prior notice to persons determined to be subject to the Order who might have a constitutional presence in the United States would render ineffectual the blocking and other measures authorized in the Order because of the ability to transfer funds instantaneously”, I determine that no prior notice need be provided to any person subject to this determination who might have a constitutional presence in the United States, because to do so would render ineffectual the measures authorized in the Order.

This notice shall be published in the Federal Register.

Dated: April 30, 2003.
Colin L. Powell,
Secretary of State, Department of State.

[FR Doc. 03-11462 Filed 5-6-03; 5:00 pm]

BILLING CODE 4710-10-P